DEPARTMENT OF THE INTERIOR

National Park Service

Notice of Availability of the Record of Decision for the Environmental Impact Statement on the Backcountry Management Plan and General Management Plan Amendment, Denali National Park and Preserve, AK

AGENCY: National Park Service, Interior.

ACTION: Notice of Availability of the Record of Decision for the Environmental Impact Statement on the Backcountry Management Plan and General Management Plan Amendment, Denali National Park and Preserve, Alaska.

SUMMARY: The National Park Service (NPS) announces the availability of the Record of Decision (ROD) for the Environmental Impact Statement on the Backcountry Management Plan and General Management Plan Amendment, Denali National Park and Preserve, Alaska.

This Record of Decision documents the decision by the NPS to adopt a Backcountry Management Plan for Denali National Park and Preserve and to amend the park's General Management Plan. The Backcountry Management Plan addresses management of all park and preserve lands, except the park road corridor and adjacent development zones and backcountry day use areas, which were addressed in the 1997 Entrance Area and Road Corridor Development Concept Plan. Winter management of the park road corridor west of park headquarters is also addressed. The plan includes management area zoning, access, wilderness management, commercial services, backcountry facilities, administrative and research uses, and boundary changes. The plan also serves as a Soundscape Preservation and Noise Management Plan as required by NPS Director's Order 47, a Wilderness Management Plan as required by NPS Director's Order 41, and a Commercial Services Plan for the backcountry.

The NPS selected the modified version of Alternative 4, as described in the Final Environmental Impact Statement (Final EIS). Of the four action alternatives, this alternative best meets the objectives of the plan for park resource protection and recreational use, and has a high degree of implementation feasibility.

The ROD briefly discusses the background for the planning effort, summarizes public involvement during the planning process, states the decision and discusses the basis for it, describes other alternatives considered, specifies the environmentally preferable alternative, identifies measures adopted to minimize potential environmental harm, and provides a non-impairment determination.

ADDRESSES: The ROD can be found online at the NPS Planning, Environment and Public Comment Web site at http://parkplanning.nps.gov/index.cfm. Copies of the ROD are available on request from: Adrienne Lindholm, National Park Service, Alaska Regional Office, 240 West 5th Avenue, Anchorage, Alaska 99501. Telephone: (907) 644-3613.

FOR FURTHER INFORMATION CONTACT: Mike Tranel, Chief of Planning, National Park Service, Denali National Park and Preserve, 240 West 5th Avenue, Anchorage, Alaska 99501. Telephone: (907) 644-3611.

SUPPLEMENTARY INFORMATION: The NPS prepared an EIS, as required, under the National Environmental Policy Act (NEPA) of 1969 and Council of Environmental Quality regulations (40 Code of Federal regulations [CFR] 1500).

A Notice of Intent to prepare an environmental impact statement, published in the Federal Register on August 31, 1999 (64 FR 49503), formally initiated the NPS planning and EIS effort. A Draft EIS was issued in February 2003 (68 FR 8782). Following a 90-day public comment period, a Revised Draft EIS was prepared and issued for a 75-day public comment period in April 2005 (70 FR 21440). A Federal Register (FR) notice announcing the availability of the Final EIS was published by the U.S. Environmental Protection Agency (EPA) on January 20, 2006, commencing the required 30-day no-action period (71 FR 3290). The Final EIS describes and analyzes the environmental impacts of four action alternatives and a no-action alternative.

The NPS selected the modified version of Alternative 4, as described in the Final EIS. The overview of the selected alternative is as follows:

This backcountry management plan will guide the NPS in providing opportunities for a variety of wilderness recreational activities and experiences while recognizing and protecting the premier wilderness resource values of the entire backcountry. Areas in the Dunkle Hills and around the Ruth and Tokositna Glaciers on the south side of the Alaska Range will be managed for those visitors who want to experience the wilderness resource values or other resource values of the Denali backcountry but require services or assistance, or who are unable to make a lengthy time commitment. Areas along the park road in the Old Park and the Kantishna Hills will provide accessible opportunities for short- or long-duration wilderness recreational activities with only limited options for guidance or assistance the farther one gets from the park road. The remainder of the backcountry will be managed for dispersed, self-reliant travel, and will include opportunities for extended expeditions in very remote locations.

Major actions of the selected alternative include:

• Subdivision of the “Natural” zone in the 1986 General Management Plan into a variety of management areas that are designed for different types of backcountry experiences: The management areas are defined by indicators and standards for resource and social conditions, which establish a carrying capacity for the area. These management areas include a few areas of relatively dense use and higher levels of impacts. These high use areas accommodate transportation into the backcountry and visitors who want to experience the wilderness resource values or other resource values of the Denali backcountry but require services or assistance, or who are unable to make a lengthy time commitment.

• Management of visitor access through adaptive management: Resource and social conditions will be monitored and access management tools will be used to achieve the standards for each management area. This approach is consistent with the Visitor Experience and Resource Protection framework used by the NPS to address carrying capacity.

• Establishment of wilderness management criteria, group size limits, restrictions on use of climbing tools, and a strategy for preventing social trail formation: The entire park and preserve backcountry will be managed to preserve wilderness resource values and provide wilderness recreational opportunities.

• Provision of commercial services in the backcountry associated with wilderness recreation and transportation to wilderness recreation, and scenic air tour landings.

• Limited development of visitor facilities in the backcountry, including a continuation of the “no formal trails” policy park wide (with minor, specific exceptions), no public use cabins or shelters in the backcountry, and up to five designated campsites in the southern Kantishna Hills.

• Application of the minimum requirement/minimum tool process throughout the park and preserve backcountry, research permit requirements for all NPS and external research, and development of a plan for NPS administrative and research use of aircraft.

• A land exchange with the State of Alaska to align the park boundary with the Ruth, Tokositna, Chulitna, and Coffee Rivers.

Dated: February 21, 2006.
Victor Knox,
Acting Regional Director, Alaska.

[FR Doc. E6-3558 Filed 3-13-06; 8:45 am]

BILLING CODE 4310-PF-P